DEPARTMENT OF ENERGY

Bonneville Power Administration

Coeur d'Alene Tribal Trout Production Facility

AGENCY: Bonneville Power Administration (BPA), Department of Energy (DOE).

ACTION: Notice of floodplain and wetlands involvement.

SUMMARY: This notice announces BPA's proposal to fund construction of a supplementation hatchery facility for the Coeur d'Alene Tribe in floodplain and wetlands located in Kootenai and Benewah Counties, Idaho. In accordance with DOE regulations for compliance with floodplain and wetlands environmental review requirements, BPA will prepare a floodplain and wetlands assessment. The assessment will be included in the environmental assessment being prepared for the proposed project in accordance with the requirements of the National Environmental Policy Act. A floodplain statement of findings will be included in any finding of no significant impact that may be issued following the completion of the environmental assessment.

DATES: Comments are due to the address below no later than June 20, 2000.

ADDRESSES: Submit comments to Communications, Bonneville Power Administration—KC-7, P.O. Box 12999, Portland, Oregon 97212. Internet address: comment@bpa.gov.

FOR FURTHER INFORMATION CONTACT: Eric N. Powers—KECN-4, Bonneville Power Administration, P.O. Box 3621, Portland, Oregon, 97208-3621, phone number 503-230-5823, fax number 503-230-5699.

SUPPLEMENTARY INFORMATION: The project would involve construction of a fish hatchery and two acclimation ponds. The hatchery would be located within the 100-year floodplain of Rock Creek (T47N, R4W, Section 31); the acclimation sites would affect wetlands associated with the tributaries of Benewah Creek (T45N, R3W, Section 17) and Alder Creek (T45N, R3W, Section 33).

Maps and further information are available from BPA at the address above.

Issued in Portland, Oregon, on May 25, 2000.
Thomas C. McKinney,
NEPA Compliance Officer.

[FR Doc. 00-13968 Filed 6-2-00; 8:45 am]

BILLING CODE 6450-01-U